DEPARTMENT OF COMMERCE

National Oceanic and Atmospheric Administration

RIN 0648-XD097

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council's (Council) Mackerel, Squid, and Butterfish Advisory Panel will hold a public meeting.

DATES: The meeting will be held on February 10, 2014, from 2 p.m. until 5 p.m.

ADDRESSES: The meeting will be held via webinar. Webinar registration and connection details are available at: http://www.mafmc.org/actions/msb-framework-9.

Council address: Mid-Atlantic Fishery Management Council, 800 North State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The purpose of the meeting is to gather input from the Advisory Panel on upcoming Council actions, primarily Framework 9 to the Atlantic Mackerel, Squid, and Butterfish Fishery Management Plan. Framework 9 addresses concerns about slippage events on observed fishing trips. Slippage events occur when all or a portion of a haul is released before observers can document/sample the catch.

Although issues not contained in this notice may be discussed, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: January 21, 2014.
Tracey L. Thompson,
Acting Deputy Director, Office of Sustainable Fisheries, National Marine Fisheries Service.

[FR Doc. 2014-01416 Filed 1-23-14; 8:45 am]

BILLING CODE 3510-22-P